DEPARTMENT OF THE INTERIOR

Bureau of Land Management

[MT-924-1430-FQ; SDM 034316]

Public Land Order No. 7702; Partial Revocation of Public Land Order No. 1446; South Dakota

AGENCY: Bureau of Land Management, Interior.

ACTION: Public Land Order.

SUMMARY: This order revokes a Public Land Order insofar as it affects 20 acres of public land within the Black Hills National Forest withdrawn from surface entry and mining and reserved for use of the Forest Service as the Pactola Administrative Site. The land is no longer needed for administrative purposes. This order opens the land for sale.

EFFECTIVE DATE: May 19, 2008.

FOR FURTHER INFORMATION CONTACT: Sandra Ward, BLM Montana State Office, 5001 Southgate Drive, Billings, Montana 59101-4669, 406-896-5052.

SUPPLEMENTARY INFORMATION: The revocation is needed to facilitate a Forest Service land sale conducted in accordance with Public Laws 106-329 and 109-54.

Order

By virtue of the authority vested in the Secretary of the Interior by Section 204 of the Federal Land Policy and Management Act of 1976, 43 U.S.C. 1714 (2000), it is ordered as follows:

1. Public Land Order No. 1446 (22 FR 5873 (1957)), which withdrew public land from surface entry and mining and reserved it for use of the Forest Service as the Pactola Administrative Site, is hereby revoked insofar as it affects the following described land:

Black Hills Meridian

Black Hills National Forest

T. 2 N., R. 5 E.,

Sec. 26, E½NE¼SE¼.

The area described contains 20 acres in Pennington County.

2. The above-described land is hereby made available for sale in accordance with Public Law 106-329 and Public Law 109-54.

Authority: 43 CFR 2370.

Dated: April 3, 2008.
C. Stephen Allred,
Assistant Secretary—Land and Minerals Management.

[FR Doc. E8-8409 Filed 4-17-08; 8:45 am]

BILLING CODE 3419-11-P